DEPARTMENT OF EDUCATION

[Docket No.: ED-2022-SCC-0113]

Agency Information Collection Activities; Comment Request; Bipartisan Safer Communities Act (BSCA), Stronger Connections Grant Program (SCG)

AGENCY: Office of Elementary and Secondary Education (OESE), Department of Education (ED).

ACTION: Notice.

SUMMARY: In accordance with the Paperwork Reduction Act of 1995, ED is requesting the Office of Management and Budget (OMB) to conduct an emergency review of an extension without change of a currently approved collection.

DATES: The Department requested emergency approval for this information collection request; and therefore, the regular clearance process is hereby being initiated to provide the public with the opportunity to comment under the full comment period. Interested persons are invited to submit comments on or before November 15, 2022.

ADDRESSES: To access and review all the documents related to the information collection listed in this notice, please use http://www.regulations.gov by searching the Docket ID number ED-2022-SCC-0113. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Bryan Williams, 202-453-6715.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Bipartisan Safer Communities Act (BSCA), Stronger Connections Grant (SCG) Program.

OMB Control Number: 1810-0770.

Type of Review: An extension without change of a currently approved collection.

Respondents/Affected Public: State, Local, and Tribal Governments.

Total Estimated Number of Annual Responses: 56.

Total Estimated Number of Annual Burden Hours: 3,360.

Abstract: The Department of Education (the Department) requested emergency approval of a new information collection under the School Improvement Programs section of the Bipartisan Safer Communities Act (BSCA), and the SCG program which OMB approved. Under this program, the Department awards grants to State educational agencies (SEAs) for the purpose of providing competitive grants to high-need local educational agencies (LEAs) for activities under section 4108 of the Elementary and Secondary Education Act of 1965 (ESEA).

Eligible applicants for the SCG funds include those in any of the 50 States, the District of Columbia, the Commonwealth of Puerto Rico, the Bureau of Indian Education, and the Outlying Areas. Each SEA will award no less than 95 percent of its SCG allocation on a competitive basis to high-need LEAs as determined by the State. The SEA will reserve no more than 1% of its SCG allocation for administration and will use any remaining funds not awarded to LEAs for State-level activities to support section 4108 of the Elementary and Secondary Education Act of 1965 (ESEA).

This information collection will support the Department in providing effective technical assistance, monitoring and oversight to ensure that these funds are awarded and used as required by the BSCA—i.e., that the funds are awarded to high-need LEAs on a competitive basis for activities allowable under section 4108 of the ESEA. Department staff will review the information submitted by SEAs (1) for monitoring purposes, to verify that SEAs are implementing the BSCA requirements for SEA award of the SCG funds; and (2) to understand the manner in which SEAs are implementing these requirements. This information will enable the Department to provide effective technical assistance and support to States. If this information is not collected, the Department will be unable to fully and adequately meet monitoring and technical assistance responsibilities as States implement this program.

Dated: September 13, 2022.
Kun Mullan,
PRA Coordinator, Strategic Collections and Clearance, Governance and Strategy Division, Office of Chief Data Officer, Office of Planning, Evaluation and Policy Development.

[FR Doc. 2022-20126 Filed 9-15-22; 8:45 am]

BILLING CODE 4000-01-P